DEPARTMENT OF STATE

[Public Notice 5397]

Determination Pursuant to Section 1(b) of Executive Order 13224 Relating to Lashkar-e-Tayyiba (LT, LET), aka Lashkar-e-Toiba, aka Lashkar-i-Taiba, aka al Mansoorian, aka al Mansooreen, aka Army of the Pure, aka Army of the Righteous, aka Army of the Pure and Righteous, aka Paasban-e-Kashmir, aka Paasban-i-Ahle-Hadith, aka Pasban-e-Kashmir, aka Pasban-e-Ahle-Hadith, aka Paasban-e-Ahle-Hadis

Acting under the authority of Section 1(b) of Executive Order 13224 of September 23, 2001, as amended, and in consultation with the Secretary of the Treasury, the Attorney General, and the Secretary of Homeland Security, I hereby determine that Lashkar-e-Tayyiba uses or has used the following aliases in addition to those listed above: Jamaat-ud-Dawa, JUD, Jama'at al-Dawa, Jamaat ud-Daawa, Jamaat ul-Dawah, Jamaat-ul-Dawa, Jama'at-i-Dawat, Jamaiat-ud-Dawa, Jama'at-ud-Da'awah, Jama'at-ud-Da'awa, Jamaati-ud-Dawa, and Idara Khidmat-e-Khalq.

I hereby amend the designation of Lashkar-e-Tayyiba (and its aliases) to add the following names as aliases together with any transliterations of these names: Jamaat-ud-Dawa, aka JUD, aka Jama'at al-Dawa, aka Jamaat ud-Daawa, aka Jamaat ul-Dawah, aka Jamaat-ul-Dawa, aka Jama'at-i-Dawat, aka Jamaiat-ud-Dawa, aka Jama'at-ud-Da'awah, aka Jama'at-ud-Da'awa, aka Jamaati-ud-Dawa, aka Idara Khidmat-e-Khalq.

Condoleezza Rice,
Secretary of State, Department of State.

[FR Doc. 06-4005 Filed 4-26-06; 5:00 pm]

BILLING CODE 4710-10-P